DEPARTMENT OF ENERGY

10 CFR Part 830

RIN 1901-AA34

Nuclear Safety Management

AGENCY: Department of Energy (DOE).

ACTION: Final rule; completion of regulatory review.

SUMMARY: In accordance with the memorandum of January 20, 2001, from the Assistant to the President and Chief of Staff, entitled “Regulatory Review Plan,” published in the Federal Register on January 24, 2001 (66 FR 7702), DOE temporarily delayed for 60 days (66 FR 8746, February 2, 2001) the effective date of the rule entitled “Nuclear Safety Management” published in the Federal Register on January 10, 2001 (66 FR 1810). DOE has now completed its review of that regulation, and does not intend to initiate any further rulemaking action to modify its provisions and confirms the effective date of April 10, 2001.

DATES: The effective date of the rule published at 66 FR 8746, February 2, 2001, is confirmed as April 10, 2001.

FOR FURTHER INFORMATION CONTACT: Richard Black, Director, 301-903-3465, Richard.Black@eh.doe.gov

Issued in Washington, D.C.
Spencer Abraham,
Secretary of Energy.

[FR Doc. 01-9459 Filed 4-16-01; 8:45 am]

BILLING CODE 6450-01-P